DEPARTMENT OF LABOR

Office of Workers' Compensation Programs

Advisory Board on Toxic Substances and Worker Health Charter Amendment.

AGENCY: Office of Workers' Compensation Programs, Labor.

ACTION: Advisory Board on Toxic Substances and Worker Health for Part E of the Energy Employees Occupational Illness Compensation Program Act (EEOICPA); Notice of Charter Amendment.

SUMMARY: In accordance with section 3687 of Public Law 106-398, which was added by section 3141(a) of the National Defense Authorization Act (NDAA) of 2015, Executive Order 13699 (June 26, 2015), and the provisions of the Federal Advisory Committee Act and its implementing regulations issued by the General Services Administration (GSA), the Advisory Board on Toxic Substances and Worker Health was established on July 2, 2015. A Charter and Membership Balance Plan were filed in accordance with the Federal Advisory Committee Act (FACA).

The new provision added to EEOICPA by the NDAA specifies that the Director of the Advisory Board's staff must be a member of the Senior Executive Service (SES). This individual will also perform the duties of the Designated Federal Officer (DFO). The original Charter for the Advisory Board specified that the DFO would be the Office of Workers' Compensation Programs (OWCP) Comptroller, a member of the SES. OWCP now amends the Charter to specify that the DFO is a member of the SES from OWCP, but not the Program Director of the EEOICPA program. The amended Charter has been filed in accordance with FACA.

FOR FURTHER INFORMATION CONTACT: You may contact Antonio Rios, Designated Federal Officer, Advisory Board on Toxic Substances and Worker Health, Office of Workers' Compensation Programs, at rios.antonio@dol.gov, or Carrie Rhoads, Office of Workers' Compensation Programs, at rhoads.carrie@dol.gov, U.S. Department of Labor, 200 Constitution Avenue NW., Suite S-3524, Washington, DC 20210, telephone (202) 343-5580.

This is not a toll-free number.

Signed at Washington, DC, this 5th day of February, 2016.
Leonard J. Howie III,
Director, Office of Workers' Compensation Programs.

[FR Doc. 2016-02859 Filed 2-11-16; 8:45 am]

BILLING CODE 4510-24-P